DEPARTMENT OF COMMERCE

National Oceanic and Atmospheric Administration

[RTID 0648-XB102]

Pacific Fishery Management Council; Public Meeting

AGENCY: National Marine Fisheries Service (NMFS), National Oceanic and Atmospheric Administration (NOAA), Commerce.

ACTION: Notice of public online meeting.

SUMMARY: The Pacific Fishery Management Council's (Pacific Council) Scientific and Statistical Committee's (SSC's) Salmon Subcommittee will meet to review the SSC's role in reviewing salmon forecast methodologies and other analyses informing Pacific Council decisions as specified in the Pacific Coast Salmon Fishery Management Plan (FMP) and in Council Operating Procedure (COP) 15. The SSC Salmon Subcommittee may also discuss how best scientific information available (BSIA) determinations for salmon decision-making might be structured.

DATES: The online meeting will be held Friday, June 4, 2021, from 9 a.m. to 1 p.m., Pacific Daylight Time.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: John DeVore, Staff Officer; Pacific Council, telephone: (503) 820-2413.

SUPPLEMENTARY INFORMATION: The purpose of the SSC Salmon Subcommittee meeting will be to review the Pacific Coast Salmon FMP and COP 15 to evaluate the SSC's role in future methodology reviews of salmon run forecast methodologies and other analyses used by the Pacific Council in management decision-making. The SSC will seek clarification from the Pacific Council at its June 2021 meeting regarding their role in reviewing salmon run forecasts. The SSC Salmon Subcommittee may also discuss BSIA determinations for salmon decision-making that could inform SSC recommendations on the regional BSIA framework which are scheduled to be presented at the September 2021 Pacific Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt, (kris.kleinschmidt@noaa.gov; (503) 820-2412), at least 10 days prior to the meeting date.

Authority: 16 U.S.C. 1801 et seq.

Dated: May 17, 2021,
Tracey L. Thompson,
Acting Deputy Director, Office of Sustainable Fisheries, National Marine Fisheries Service.

[FR Doc. 2021-10720 Filed 5-20-21; 8:45 am]

BILLING CODE 3510-22-P